DEPARTMENT OF DEFENSE

Defense Acquisition Regulations System

[Docket Number DARS-2024-0010; OMB Control Number 0704-0519]

Information Collection Requirement; Defense Federal Acquisition Regulation Supplement (DFARS) Subpart 204.17, Service Contracts Inventory

AGENCY: Defense Acquisition Regulations System; Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of DoD's estimate of the burden of the proposed information collection; ways to enhance the quality, utility, and clarity of the information to be collected; and ways to minimize the burden of the information collection on respondents, including through the use of automated collection techniques or other forms of information technology. The Office of Management and Budget (OMB) has approved this information collection for use under Control Number 0704-0519 through July 31, 2024. DoD proposes that OMB approve an extension of the information collection requirement, to expire three years after the approval date.

DATES: DoD will consider all comments received by May 21, 2024.

ADDRESSES: You may submit comments, identified by OMB Control Number 0704-0519, using either of the following methods:

○ Federal eRulemaking Portal: https://www.regulations.gov. Follow the instructions for submitting comments.

○ Email: osd.dfars@mail.mil. Include OMB Control Number 0704-0519 in the subject line of the message.

Comments received generally will be posted without change to https://www.regulations.gov, including any personal information provided.

FOR FURTHER INFORMATION CONTACT: Kimberly R. Ziegler, at 703-901-3176.

SUPPLEMENTARY INFORMATION:

Title and OMB Number: Defense Federal Acquisition Regulation Supplement (DFARS) Subpart 204.17, Service Contracts Inventory and Associated Clause; OMB Control Number 0704-0519.

Affected Public: Businesses or other for-profit and not-for-profit institutions.

Respondent's Obligation: Required to obtain or retain benefits.

Frequency: On occasion.

Number of Respondents: 1,934.

Responses per Respondent: Approximately 2.3.

Annual Responses: 4,384.

Average Burden per Response: 2 hours.

Annual Burden Hours: 8,768.

Needs and Uses: This information collection covers the burden hours related to the requirement at DFARS subpart 204.17, Service Contracts Inventory, and its associated clause, 252.204-7023, Reporting Requirements for Contracted Services. DFARS subpart 204.17 and the clause at 252.204-7023 implement 10 U.S.C. 4505 (formerly 10 U.S.C. 2330a), as amended by section 812 of National Defense Authorization Act for Fiscal Year 2017, which requires DoD to establish a data collection system to provide certain management information with regard to each purchase of services by a military department or agency that exceeds $3 million for services in the following service acquisition portfolio groups: logistics management services, equipment-related services, knowledge-based services, and electronics and communications services.

The basic DFARS clause 252.204-7023, Reporting Requirements for Contracted Services, and its alternate I require a contractor to report annually, in the System for Award Management, on the services performed under the contract or order, during the preceding Government fiscal year. Specifically, the contractor is required to report the following: the total dollar amount invoiced for services performed during the preceding fiscal year; and the number of direct labor hours, including subcontractor hours (when applicable), expended on services performed during the previous Government fiscal year.

This information collection will provide DoD with the ability to identify and report annually to Congress, in accordance with 10 U.S.C. 4505, on the inventory of contractor service contract actions. As an adjunct, the information will support DoD's total force management and in making strategic workforce planning and budget decisions pursuant to 10 U.S.C. 129a.

Jennifer D. Johnson,
Editor/Publisher, Defense Acquisition Regulations System.

[FR Doc. 2024-06111 Filed 3-21-24; 8:45 am]

BILLING CODE 6001-eFR-P